DEPARTMENT OF COMMERCE

International Trade Administration

Water and Wastewater Trade Mission to Australia Taking Place September 12-15, 2011; Now Opened to Multiple Sectors

AGENCY: International Trade Administration, Department of Commerce.

ACTION: Notice.

Mission Description

The United States Department of Commerce, International Trade Administration (ITA), U.S. and Foreign Commercial Service (US&FCS) is organizing a Trade Mission to Australia September 12-15, 2011, to help U.S. firms find business partners and sell equipment and services in Sydney, Brisbane, and Melbourne, Australia. This trade mission is designed to provide a key opportunity for U.S. suppliers of equipment and services to explore the Australian market. This mission will be led by a senior Department of Commerce official and will include business-to-business matchmaking with local companies, market briefings, and networking events.

Commercial Setting

Australia is the 14th-largest export market for U.S. goods. The USD12 billion trade surplus with Australia is one of the largest trade surpluses the United States has with any country. In addition, Australia has weathered the global financial crisis better than many other countries, and has managed to enjoy continuous economic growth. The U.S.-Australia Free Trade Agreement (FTA) allows U.S. products to enter Australia duty free. U.S. exports to Australia have jumped 56 percent since the FTA was signed in 2005.

Australia possesses a sound legal system, which is hospitable to foreign investors and exporters, and generally provides strong Intellectual Property Rights protection and enforcement. Reports of corruption remain low, and Australia maintains rule of law, transparency, a strong banking system, and a strong Australian dollar that increases the competitiveness of U.S. products and services.

The top two sectors for this trade mission include:

Water and Wastewater Treatment Equipment and Services

Despite the recent flooding that for the moment eased the drought situation in Victoria, New South Wales (NSW), and Queensland, Western Australia still faces critical water shortages. Although water storage levels have improved in most regions, the Australian Government, at federal and state levels, is working on strategies and projects aimed at securing future water supply. Australia spends an estimated USD4.2 billion each year on water and wastewater treatment. Direct purchases of capital equipment account for 20 to 30 percent of total spending. We estimate the annual market size to be USD500 million-USD1 billion. This mission immediately follows the International Desalination Association (IDA) Annual World Congress, which takes place on the West Coast of Australia in Perth, Sept 4-9, 2011.

Mining Equipment

Mining is a large industry in Australia. The total market size for mining equipment is in excess of US$500 million and the industry imports 70 percent of its equipment. Australia is the second-largest export market for U.S.-manufactured mining equipment. Companies recognize U.S. products for their quality and will pay a premium to avoid heavy losses associated with equipment failure or production delays. In addition, AIMEX, Asia-Pacific's International Mining Exhibition, is taking place in Sydney September 6-9, 2011, allowing interested companies to travel a few days in advance of the mission to take advantage of the show to learn how their technologies can also be used in support of the mining industry.

Additional Key sectors for this trade mission include:

Construction Machinery

Industry experts continue to be optimistic for the construction sector's potential over the medium term, with annual average industry real growth of 3.8% anticipated between 2013 and 2018. The key factor influencing the growth is major infrastructure projects that are planned in Australia in different industries. Key sectors include: transport infrastructure, mining, electricity, telecommunications, sewerage and water supply, and other civil projects.

Composites, Chemicals and Plastics

A wide variety of chemicals are in demand in Australia; and both the water and wastewater and mining industries rely heavily on chemical processes. The plastics and chemicals industries turnover approximately AU$32.5 billion every year, directly employ 85,000 people and represent between 9 and 10 per cent of total Australian manufacturing activity. Australia presents favorable opportunities for U.S. companies with technological advanced products in the composites, chemicals and plastics Industries.

Oil and Gas Field Machinery

Oil and gas is a US$10 billion a year production industry. There are approximately US$150 billion of projects under construction or well-along in the planning stages. Modernization and restoration of existing machinery and infrastructure will continue. Coal bed methane is a fast growing industry with the bulk of onshore drilling and production focused within the state of Queensland.

Additional Industries

While priority will be given to applicants from the above industry sectors, applications will also be considered from all sectors depending upon how well the company's products or services fit into the overall Australian market. Additional best prospects include: aircraft and parts, automotive parts and accessories, biotechnology, cosmetics, franchising, information technology services and software, renewable energy, and travel and tourism.

Mission Goals

The goals of the Australian Mission are (1) To increase U.S. equipment and services sales to Australia through one-on-one meetings with potential partners, and through establishing long-term business relationships; (2) to provide a high-profile opportunity for U.S. participants to gain exposure in, and further access to, this market through meeting key Australian decision makers; and (3) to provide general advocacy for all mission participants in support of their export efforts.

Mission Scenario

The U.S. Department of Commerce Trade Mission to Australia will visit Sydney, Brisbane, and Melbourne. In each city, participants will meet with new business contacts. Mission participants are encouraged to arrive on or before September 11, 2011 and the mission program will proceed from September 12-15, 2011.

Tentatively, U.S. participant's one-on-one meetings will be at the local Australian firm's facilities, to give participants an opportunity to fully access the true business potential. The precise schedule will depend on the availability of local business representatives and the specific goals and objectives of the mission participants. Our offices in Australia will help companies make their daily travel arrangements once the final schedule is confirmed.

Proposed Mission Timetable
Day of week | Date | Activity
Sunday | Sept. 11—Sydney | Arrive in Sydney.
|  | No-host meet and greet dinner.
Monday | Sept 12—Sydney | Mission Meetings Officially Start.
|  | Breakfast briefing from U.S. Consulate General and local industry experts.
|  | One-on-one business appointments.
|  | Evening business reception.
Tuesday | Sept 13—Sydney | One-on-one business appointments.
|  | Travel to Brisbane.
Wednesday | Sept 14—Brisbane/Melbourne | One-on-one business appointments.
|  | Travel to Melbourne.
Thursday | Sept 15—Melbourne | One-on-one business appointments.
|  | Trade Mission Officially Ends in Early Evening.
Friday | Sept 16—Melbourne | Company participants return to U.S.

*Note: The final schedule and potential site visits will depend on the availability of local government and business officials, specific goals of mission participants, and air travel schedules.

Participation Requirements

All applicants will be evaluated on their ability to meet certain conditions and best satisfy the selection criteria as outlined below. The mission is designed to select a minimum of 15 and a maximum of 20 U.S. companies to participate in the mission from the applicant pool. U.S. companies already doing business in the target markets as well as U.S. companies seeking to enter these markets for the first time should apply.

Fees and Expenses

Confirmed participants will pay a participation fee to the U.S. Department of Commerce: $2,000 for a small or medium-sized enterprise (SME) ¹ and $2,500 for large firms. The fee for each additional firm representative (SME or large) is $450. Expenses for travel, lodging, meals, and incidentals will be the responsibility of each mission participant.

¹ An SME is defined as a firm with 500 or fewer employees or that otherwise qualifies as a small business under SBA regulations. See http://www.sba.gov/contractingopportunities/owners/basics/whatismallbusiness/index.html. Parent companies, affiliates, and subsidiaries will be considered when determining business size. The dual pricing reflects the Commercial Service's user fee schedule that became effective May 1, 2008. See http://www.export.gov/newsletter/march2008/initiatives.html.

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the Australian market.

• Consistency of the applicant's goals and objectives with the stated scope and design of the mission.

• Applicant's potential for business in Australia, including likelihood of exports resulting from the mission.

Diversity of company size, type, location, and demographics, may also be considered during the review process.

Referrals from political organizations and any documents containing references to partisan political activities (including political contributions) will be removed from an applicant's submission and not considered during the selection process.

Timeframe for Recruitment and Applications

Mission recruitment will be conducted in an open and public manner, including publication in the Federal Register (http://www.gpoaccess.gov/fr), posting on ITA's trade mission calendar— http://www.trade.gov/trade-missions—and other Internet Web sites, press releases to general and trade media, direct mail, broadcast fax, notices by industry trade associations and other multiplier groups, and publicity at industry meetings, symposia, conferences, and trade shows.

Recruitment for the mission will begin immediately, and conclude July 15, 2011, unless extended by the Department of Commerce. Applications received after July 15, 2011, will be considered only if space and scheduling constraints permit.

The U.S. Department of Commerce will inform applicants of selection decisions as soon as possible after July 15, 2011.

Contacts

U.S. Commercial Service, Lisa Huot, International Trade Specialist, Global Trade Programs, Washington, DC 20230, Tel: 202-482-2796, Fax: 202-482-9000, E-mail: lisa.huot@trade.gov.

Elnora Moye,
U.S. Department of Commerce, Commercial Service Trade Mission Program.

[FR Doc. 2011-17255 Filed 7-8-11; 8:45 am]

BILLING CODE 3510-FP-P